DEPARTMENT OF COMMERCE

National Oceanic and Atmospheric Administration

[Docket No. 121203679-2679-01]

RIN 0648-XC386

Notice of Availability of a Draft Programmatic Environmental Assessment of the Proposed United States Regional Climate Reference Network (USRCRN)

AGENCY: National Weather Service (NWS), National Oceanic and Atmospheric Administration (NOAA), U.S. Department of Commerce (DOC).

ACTION: Notice of Availability; Opportunity for comments.

SUMMARY: NOAA announces the public release of the Draft Programmatic Environmental Assessment (PEA) of the proposed USRCRN in accordance with the National Environmental Policy Act of 1969 (NEPA), the Council on Environmental Quality Regulations, and NOAA Administrative Order 216-6, Environmental Review Procedures for Implementing the National Environmental Policy Act. Written public comments on the Draft PEA are being accepted for a 30-day period following publication of this NOA. Comments received will be reviewed and taken into consideration during preparation of a Final PEA. The Draft PEA evaluates the environmental impacts from the Proposed Action to implement, operate, and manage the USRCRN Program and the No Action alternative.

DATES: Written comments and input will be accepted on or before April 25, 2013.

ADDRESSES: Written comments should be sent to Desiree Gordon, Environmental Engineer, NOAA, Safety and Environmental Compliance Office, 1305 East West Highway, SSMC-4; Room 11126, Silver Spring, MD 20910, Email: seco@noaa.gov ATTN: USRCRN.

FOR FURTHER INFORMATION CONTACT: Contact Desiree Gordon at the address provided above. A copy of the Draft PEA can be viewed or downloaded at http://www.seco.noaa.gov/environmental_compliance/Final_Draft%20PEA_11_16_12-rev2.pdf.

SUPPLEMENTARY INFORMATION: The National Weather Service, in collaboration with the National Climatic Data Center, is proposing to implement, operate, and manage a USRCRN. With other climate monitoring efforts deployed at differing scales and density, the proposed USRCRN would provide a greater density of reliable, high-quality climate data for use in climate-monitoring activities and for placing current climate anomalies into a regional and historical perspective. Each USRCRN Web site is solar-powered and has a footprint of approximately 24 feet by 24 feet with a 10-foot tall mast/tower. It is typically located away from tall objects and existing or anticipated future development.

Beginning with a pilot deployment and operation project in the Southwest region, 538 USRCRN stations would be deployed over multiple years in nine NOAA climate regions throughout the continental United States at an approximate 80-mile grid spacing. Key among the operational considerations is the placement of USRCRN Web sites on public lands not expected to undergo development for the foreseeable future (50 to 100 years). Preferred Web sites meeting these criteria are often on Federal lands, and selection would occur in coordination with the land managers within Federal agencies and bureaus. Other undeveloped properties meeting these criteria are present on state-owned lands such as at parks, airports, or state university reserves. Unencumbered properties on Federal or state public lands that meet the spatial requirements for the USRCRN would be considered as candidate sites.

Dated: March 20, 2013.
David Murray,
Director, Management and Organization Division, Office of the Chief Financial Officer, National Weather Service.

[FR Doc. 2013-06966 Filed 3-25-13; 8:45 am]

BILLING CODE 3510-KE-P